DEPARTMENT OF THE INTERIOR

Fish and Wildlife Service

[FWS-R2-ES-2009-N155; 20124-1112-0000-F2]

Hays County Regional Habitat Conservation Plan, Hays County, TX

AGENCY: Fish and Wildlife Service, Interior.

ACTION: Notice of availability: draft environmental impact statement, draft habitat conservation plan, permit application; and announcement of a public hearing.

SUMMARY: Hays County, Texas (Applicant), has applied to the U.S. Fish and Wildlife Service (Service) for an incidental take permit (TE-220793-0) under the Endangered Species Act (Act) of 1973, as amended. The requested permit, which would be in effect for a period of 30 years if granted, would authorize incidental take of the following federally listed species: Golden-cheeked warbler (Dendroica chrysoparia) and black-capped vireo (Vireo atricapilla). The proposed take would occur in Hays County, Texas, as a result of activities including, but not limited to, public or private land development, transportation projects, or utility projects. Hays County has completed a draft Habitat Conservation Plan (dHCP) as part of the application package. We have issued a draft environmental impact statement (dEIS) that evaluates the impacts of, and alternatives to, possible issuance of an incidental take permit (ITP). We request public comments on the application, dHCP, and dEIS, and we announce our plan to hold public hearings.

DATES: Public meetings: We will accept oral and written comments at a public hearing to be held on Wednesday, November 18, 2009, from 6 p.m. to 8 p.m. CDT at the San Marcos Activity Center, Room #1, 501 E. Hopkins Street, San Marcos, TX 78666.

Comment-period end: To ensure consideration, please send your written comments by February 1, 2010.

ADDRESSES: For where to review documents and submit comments, and the public meeting location, see Reviewing Documents and Submitting Comments in SUPPLEMENTARY INFORMATION.

FOR FURTHER INFORMATION CONTACT: Mr. Adam Zerrenner, Field Supervisor, Austin Ecological Services Field Office, 10711 Burnet Road, Suite 200, Austin, TX 78758; telephone 512-490-0057.

SUPPLEMENTARY INFORMATION: Under the National Environmental Policy Act (NEPA), we announce that we have gathered the information necessary to determine impacts and formulate alternatives for the EIS related to the potential issuance of an incidental take permit (ITP) to Hays County; and that the Applicant has developed an HCP which describes the measures to undertake to minimize and mitigate the effects of incidental take of federally listed species to the maximum extent practicable, under section 10(a)(1)(B) of the Act (16 U.S.C. 1531 et seq.).

Background

The initial notice of intent to prepare an EIS and hold public scoping meetings published in the Federal Register on May 16, 2008 (73 FR 28497). A summary of comments provided during the 2008 scoping periods, which included a public meeting held June 18, 2008, in San Marcos, Texas, is available on the Hays County Regional Habitat Conservation Plan Web site at http://www.hayscountyhcp.com.

The Hays County draft Regional Habitat Conservation Plan (dRHCP) and the conservation program described in the plan were developed in a process involving participants and stakeholders from potentially affected or interested groups in Hays County. The groups are organized into a Citizens Advisory Committee and a Biological Advisory Team that have overseen the development of the RHCP. The RHCP Web site contains information on meetings, documents, and the status of the process.

Section 9 of the Act and its implementing regulations prohibit the “taking” of threatened or endangered species. However, under limited circumstances, we may issue permits to take listed wildlife species incidental to, and not the purpose of, otherwise lawful activities.

Proposed Action

The proposed action involves the issuance of an ITP by the Service for covered activities in Hays County, under section 10(a)(1)(B) of the Act. The activities that would be covered by the ITP are construction, use, or maintenance of public or private land development projects; construction, maintenance, or improvement of transportation infrastructure; installation or maintenance of utility infrastructure; construction, use, or maintenance of institutional projects or public infrastructure; and management activities in RHCP preserves necessary to manage habitat for the covered species. The requested ITP will cover Hays County, Texas. The requested term of the permit is 30 years.

To meet the requirements of a section 10(a)(1)(B) ITP, the Applicant has developed and will implement the dRHCP, which describes the conservation measures the Applicant has agreed to undertake to minimize and mitigate for incidental take of the golden-cheeked warbler and black-capped vireo to the maximum extent practicable, and anticipates that incidental take will not appreciably reduce the likelihood of the survival and recovery of these species in the wild.

Alternatives

We are considering three alternatives to the proposed action as part of this process:

1. No Action—No ITP would be issued. This alternative would require individuals to seek authorization through section 7 or section 10(a)(1)(B) to address incidental take resulting from their actions in Hays County or avoid taking actions that would result in incidental take of federally listed species.

2. Moderate Preserve/Limited Take—This alternative would create an RHCP for the golden-cheeked warbler and black-capped vireo, but would limit incidental take to no more than 3,600 acres of impact to habitat for these two species. A preserve system of 3,000 acres with a pre-determined location and configuration would mitigate for the impacts of the authorized take.

3. Large-Scale Preserve System—This alternative would create an RHCP for the golden-cheeked warbler and black-capped vireo, and would allow incidental take of any potential habitat for the covered species during the term of the ITP outside of a predetermined 30,000-acre preserve.

Reviewing Documents and Submitting Comments

Please refer to TE-220793-0 when requesting documents or submitting comments.

You may obtain copies of the dEIS and dRHCP by going to the Hays County Regional Habitat Conservation Plan Web site at http://hayscountyhcp.com/documents. Alternatively, you may obtain compact disks with electronic copies of these documents by writing to Mr. Adam Zerrenner, Field Supervisor, 10711 Burnet Road, Suite 200, Austin, TX 78758; telephone 512-490-0057; facsimile 512-490-0974. The application, dRHCP, and dEIS will also be available for public inspection, by appointment, during normal business hours (8 a.m. to 4:30 p.m.) at the Austin office. During the public comment period (see DATES), submit your written comments or data to the Field Supervisor at the Austin address.

A limited number of printed copies of the dEIS and dRHCP are also available for public inspection and review at the following locations (by appointment only at government offices):

• Department of the Interior, Natural Resources Library, 1849 C St., NW., Washington, DC 20240;

• U.S. Fish and Wildlife Service, 500 Gold Avenue, SW., Room 4012, Albuquerque, NM 87102;

• San Marcos Public Library, 625 E. Hopkins Street, San Marcos, TX;

• Hays County Precinct 3 Office, 14306 Ranch Rd 12, Wimberley, TX; and

• Hays County Precinct 4 Office, 195 Roger Hanks Parkway, Dripping Springs, TX.

Persons wishing to review the application may obtain a copy by writing to the Regional Director, U.S. Fish and Wildlife Service, P.O. Box 1306, Room 4012, Albuquerque, NM 87103.

Public Meeting

A public meeting will take place on Wednesday, November 18, 2009, to be held at the San Marcos Activity Center (see DATES) from 6 p.m. to 8 p.m. CDT.

Public Availability of Comments

Written comments we receive become part of the public record associated with this action. Before including your address, phone number, e-mail address, or other personal identifying information in your comment, you should be aware that the entire comment—including your personal identifying information—may be made publicly available at any time. While you can ask us in your comment to withhold your personal identifying information from public review, we cannot guarantee that we will be able to do so.

Authority

We provide this notice under section 10(c) of the Act (16 U.S.C. 1531 et seq.) and its implementing regulations (50 CFR 17.22) and NEPA (42 U.S.C. 4371 et seq.) and its implementing regulations (40 CFR 1506.6).

Dated: August 20, 2009.
Brian A. Millsap,
Acting Regional Director, Region 2, Albuquerque, New Mexico.

[FR Doc. E9-26273 Filed 10-30-09; 8:45 am]

BILLING CODE 4510-55-P